DEPARTMENT OF THE INTERIOR

U.S. Geological Survey

[USGS-GX11CY00STF0000]

Proposed Information Collection: Strengthening the Scientific Understanding of Climate Change Impacts on Freshwater Resources of the United States

AGENCY: United States Geological Survey (USGS), Interior.

ACTION: Notice; request for comments.

SUMMARY: An interagency team of Federal agencies with freshwater resource management responsibilities is seeking public review and comment on a draft report to Congress titled “Strengthening the Scientific Understanding of Climate Change Impacts on Freshwater Resources of the United States.”

The draft report reviews key issues related to freshwater resource data and climate change and identifies next steps to improve the Nation's capacity to detect and predict changes in freshwater resources that are likely to result from a changing climate. It was prepared in response to Section 9506 of Public Law 111-11 by an interagency team of water data program managers and scientists.

The interagency team cooperated with the Subcommittee on Water Availability and Quality (SWAQ), an interagency subcommittee of the National Science and Technology Council (NSTC) Committee on Environment Natural Resources, and Sustainability (CENRS) and the Interagency Climate Change Adaptation Task Force and its Water Resources Workgroup. The interagency team also collaborated with a range of interested parties including the Advisory Committee on Water Information (ACWI). This draft report was prepared for public review and comment and is available on the Internet at http://www.acwi.climate/freshwater/report along with a link for providing comments.

DATES: Please submit comment on or before April 22, 2011.

ADDRESSES: You may submit comments by:

• E-mail: tschertz@usgs.gov. Include “9506 Report” in the subject line of the message.

• Mail: Send the original and three copies of your comments to: T. Schertz, U.S. Geological Survey, 12201 Sunrise Valley Drive, MS 412, Reston, VA 20192.

FOR FURTHER INFORMATION CONTACT: T. Schertz, 703-648-6864, tschertz@usgs.gov.

SUPPLEMENTARY INFORMATION:

I. Abstract

Information is collected from the public regarding the distribution of a draft report to Congress titled “Strengthening the Scientific Understanding of Climate Change Impacts on Freshwater Resources of the United States.” An interagency team of Federal agencies with freshwater resource management responsibilities is seeking public review and comment on the draft report. The draft report reviews key issues related to freshwater resource data and climate change and identifies next steps to improve the Nation's capacity to detect and predict changes in freshwater resources that are likely to result from a changing climate. It was prepared in response to Section 9506 of Public Law 111-11 by an interagency team of water data program managers. The interagency team cooperated with the Subcommittee on Water Availability and Quality (SWAQ), an interagency subcommittee of the National Science and Technology Council (NSTC) Committee on Environment Natural Resources, and Sustainability (CENRS) and the Interagency Climate Change Adaptation Task Force and its Water Resources Workgroup. The interagency team also collaborated with a range of interested parties including the Advisory Committee on Water Information (ACWI).

This draft report was prepared for public review and comment and is available on the Internet at http://www.acwi.climate/freshwater/report along with a link for providing comments.

Type of Request: This is an existing collection in use without an OMB control number or expiration date.

Affected Public: State and local government employees and private individuals.

Respondent's Obligation: Voluntary.

Frequency of Collection: On occasion.

Estimated Annual Number of Respondents: 500.

Estimated Total Annual Responses: 500.

Estimated Time per Response: 60 minutes.

Estimated Total Annual Burden Hours: 500 hours.

Dated: March 11, 2011.
Jerad Bales,
Chief of Science and Research for Water, U.S. Geological Survey.

[FR Doc. 2011-6798 Filed 3-22-11; 8:45 am]

BILLING CODE 4311-AM-P